DEPARTMENT OF THE TREASURY

Comptroller of the Currency

12 CFR Part 5

Rules, Policies, and Procedures for Corporate Activities

CFR Correction

In Title 12 of the Code of Federal Regulations, Parts 1 to 199, revised as of January 1, 2014, on page 293, in § 5.20, the first sentence of paragraph (i)(5)(ii) is moved to the end of paragraph (i)(5)(i).

[FR Doc. 2014-15105 Filed 6-26-14; 8:45 am]

BILLING CODE 1505-01-D